Proclamation 8591 of October 29, 2010

National Alzheimer’s Disease Awareness Month, 2010

By the President of the United States of America

A Proclamation

Alzheimer’s disease tragically robs individuals of their memories and leads to progressive mental and physical impairments. This eventually fatal disease represents a serious and growing threat to the health of our Nation, impacting millions of Americans and their families. During National Alzheimer’s Disease Awareness Month, we recommit to improving its detection and treatment, finding a cure, and standing with all whose lives are affected by this terrible disease.

As we continue our fight against Alzheimer’s disease, we must seek new ways to prevent, delay, and treat this disease. Through the American Recovery and Reinvestment Act, we are boosting funding for promising research on risk factors, on improving diagnostic tools and therapies, and in identifying new preventive measures.

This year’s landmark Affordable Care Act also makes important progress for those living with Alzheimer’s disease, as well as their loved ones and caretakers. This legislation establishes the Cures Acceleration Network, which will advance cutting-edge research, aid in the development of highly needed cures, and reduce barriers between laboratory discoveries and clinical trials for debilitating and life-threatening conditions like Alzheimer’s disease. The Affordable Care Act seeks to improve care by training nursing home workers who care for residents with dementia and establishes the Community Living Assistance Services and Supports (CLASS) Program, a new national long-term care insurance option. This legislation also provides Medicare beneficiaries with free annual wellness visits to increase the likelihood of early cognitive impairment detection, allowing patients and families to better plan for care needs. And by 2014, Americans living with Alzheimer’s disease and other pre-existing conditions will not have to worry about having their insurance coverage discontinued or denied.

The human cost of Alzheimer’s disease is staggering. We can—and must—come together to address this growing health challenge. Caring for a person with Alzheimer’s disease is a full-time, non-stop job, and this month, we also honor the compassionate caregivers and medical professionals who provide endless comfort and attention to those facing Alzheimer’s disease. Until we find more effective treatments and a cure, we must continue to support both Alzheimer’s disease research and the caregivers and victims of this devastating disease.

NOW, THEREFORE, I, BARACK OBAMA, President of the United States of America, by virtue of the authority vested in me by the Constitution and the laws of the United States, do hereby proclaim November 2010 as National Alzheimer’s Disease Awareness Month. I call upon the people of the United States to learn more about Alzheimer’s disease and what they can do to support their families, friends, and neighbors who care for those with the disease.

IN WITNESS WHEREOF, I have hereunto set my hand this twenty-ninth day of October, in the year of our Lord two thousand ten, and of the Independence of the United States of America the two hundred and thirty-fifth.

[FR Doc. 2010-28062

Filed 11-3-10; 8:45 am]

Billing code 3195-W1-P